ENVIRONMENTAL PROTECTION AGENCY

[OPP-100175; FRL-6795-6]

Visual Language Interpreting and Subcontractors, Signing Hands and Stuart B. Consultants Inc.; Transfer of Data

AGENCY: Environmental Protection Agency (EPA).

ACTION: Notice.

SUMMARY: This notice announces that pesticide related information submitted to EPA's Office of Pesticide Programs (OPP) pursuant to the Federal Insecticide,Fungicide, and Rodenticide Act (FIFRA) and the Federal Food, Drug, and Cosmetic Act(FFDCA), including information that may have been claimed as Confidential Business Information (CBI) by the submitter, will be tranferred to Visual Language Interpreting and subcontractors, Signing Hands and Stuart B. Consultants, Inc., in accordance with 40 CFR 2.30(h)(3) and 2.308(i)(2). Visual Language Interpreting and subcontractors, Signing Hands and Stuart B. Consultants, Inc., have been awarded a contract to perform work for OPP, and access to this information will enable Visual Language Interpreting and subcontractors,Signing Hands and Stuart B. Consultants, Inc., to fulfill the obligations of the contract.

DATES: Visual Language Interpreting and subcontractors, Signing Hands and Stuart B. Consultants, Inc., will be given access to this information on or before August 6, 2001.

FOR FURTHER INFORMATION CONTACT: By mail: Erik R.Johnson, FIFRA Security Officer, Information Resources and Services Division (7502C), Office of Pesticide Programs, Environmental Protection Agency, 1200 Pennsylvania Ave., NW.,Washington, DC 20460; telephone number: (703) 305-7248; e-mail address:johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register— Environmental Documents.” You can also go directly to the Federal Register listings at http://www.epa.gov/fedrgstr/.

II. Contractor Requirements

Under Contract No. 68-W9-9005/003, Visual Language Interpreting and subcontractors, Signing Hands and Stuart B. Consultants, Inc., will perform the following based on the statement of work:

The Contractor shall furnish the necessary personnel, material, equipment, services, and facilities to perform the statement of work specifications. This contract and other vehicles provides OPP with sign language support services for the hearing impaired/deaf personnel assigned to the office. The sign language personnel will report to the EPA Headquarters Interpreting Coordinator, also identified as the Project Officer under this contract, who will orient interpreters, assign work,monitor contractor performance and approve invoices per occurrence.

FIFRA CBI may be discussed during various meetings, seminars, and with other cleared employees which would require the services of the sign language support services to interpret and sign to EPA hearing impaired/deaf personnel.

OPP has determined that access by Visual Language Interpreting and subcontractors, Signing Hands and Stuart B. Consultants, Inc., to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Visual Language Interpreting and subcontractors, Signing Hands and Stuart B. Consultants Inc.,prohibits use of the information for any purpose not specified in the contract; prohibits disclosure of the information to a third party without prior written approval from the Agency; and requires that each official and employee of the contractor sign an agreement to protect the information from unauthorized release and to handle it in accordance with the FIFRA Information Security Manual. In addition, Visual Language Interpreting and subcontractors, Signing Hands and Stuart B. Consultants, Inc., are required to submit for EPA approval a security plan under which any CBI will be secured and protected against unauthorized release or compromise. No information will be provided to Visual Language Interpreting and subcontractors, Signing Hands and Stuart B. Consultants, Inc., until the requirements in this document have been fully satisfied. Records of information provided to Visual Language Interpreting and subcontractors, Signing Hands and Stuart B. Consultants, Inc., will be maintained by EPA Project Officers for this contract. All information supplied to Visual Language Interpreting and subcontractors, Signing Hands and Stuart B. Consultants, Inc., by EPA for use in connection with this contract will be returned to EPA when Visual Language Interpreting and subcontractors, Signing Hands and Stuart B. Consultants, Inc., have completed their work.

List of Subjects

Environmental protection, Business and industry, Government contracts, Government property, Security measures.

Dated: July 23, 2001.
Richard D. Schmitt,
Director, Information Resources and Services Division,Office of Pesticide Programs.

[FR Doc. 01-19170 Filed 7-31-01; 8:45 am]

BILLING CODE 6560-50-S